COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List a product and services to be furnished by nonprofit agencies employing persons who are blind or have other severe disabilities, and deletes from the Procurement List products and services previously furnished by such agencies.

DATES: Effective Date: 11/23/2009.

ADDRESSES: Committee for Purchase From People Who Are Blind or Severely Disabled, Jefferson Plaza 2, Suite 10800, 1421 Jefferson Davis Highway, Arlington, Virginia 22202-3259.

FOR FURTHER INFORMATION CONTACT: Louis Bartalot, Telephone: (703) 603-7740, Fax: (703) 603-0655, or email CMTEFedReg@AbilityOne.gov.

SUPPLEMENTARY INFORMATION:

Additions

On 7/17/2009 (74 FR 34726-34727) and 8/21/2009 (74 FR 42234-42235), the Committee for Purchase From People Who Are Blind or Severely Disabled published notices of proposed additions to the Procurement List.

After consideration of the material presented to it concerning capability of qualified nonprofit agencies to provide the product and services and impact of the additions on the current or most recent contractors, the Committee has determined that the product and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

NSN: 6660-00-920-3722—Rain Gauge, 4″.

NPA: Productive Alternatives, Inc., Fergus Falls, MN.

Contracting Activity: Dept of Commerce, Office of the Secretary/NOAA, KANSAS, MO.

Coverage: C-List for the requirements of the Department of Commerce, National Oceanic and Atmospheric Administration, Central Administrative Support Center, Kansas City, MO.

Services

Service Type/Location: Base Supply Center, USDA, Headquarters, 1400 Independence Ave., SW., Washington, DC.

NPA: Winston-Salem Industries for the Blind, Winston-Salem, NC.

Contracting Activity: Department of Agriculture—USDA, Office of Operations, Washington, DC.

Service Type/Location: Janitorial and Grounds Maintenance Service, USDA-ARS, 2000 E. Allen Rd., Tucson, AZ.

NPA: Beacon Group SW, Inc., Tucson, AZ.

Contracting Activity: Department of Agriculture—USDA, Agricultural Research Service, PWA Area Procurement Office, Albany, CA.

Service Type/Location: Custodial Services, Bradford Facility, 5000 Bradford Drive, Huntsville, AL; Huntsville Warehouse, 151 Electronics Blvd., Huntsville, AL; Wynn Facility, 106 Wynn Drive, Huntsville, AL; Huntsville Warehouse, 351 Electronics Blvd., Huntsville, AL; Cheverly Warehouse, 6340 Columbia Park Road, Cheverly, MD; Suffolk Facility, 5611 Columbia Pike, Alexandria, VA; Dahlgren Facilities, 17211 Avenue D, Dahlgren, VA.

NPA: Huntsville Rehabilitation Foundation, Huntsville, AL.

Contracting Activity: Dept of Defense, Missile Defense Agency (MDA), Redstone Arsenal, AL.

Service Type/Location: Receptionist and Security Services, Lyng Service Center, USDA NRCS California State Office, 430 G. Street, #4164, Davis, CA.

NPA: Pacific Coast Community Services, Richmond, CA.

Contracting Activity: Dept. of Agriculture, Natural Resources Conservation Service, Soil Conservation Service, Davis, CA.

Service Type/Location: Food Service Attendants, CMSGT Emerson E. Williams Dining Facility, 417 Polifka Drive, Shaw AFB, SC.

NPA: Goodwill Industries of Lower South Carolina, Inc., North Charleston, SC.

Contracting Activity: Dept. of The Air Force, FA4803 20 Cons Cos, Shaw AFB, SC.

Deletions

On 7/10/2009 (74 FR 33211-33212); 7/17/2009 (74 FR 34726-34727), 8/7/2009 (74 FR 39641) and 8/21/2009 (74 FR 42234-42235), the Committee for Purchase From People Who Are Blind or Severely Disabled published notices of proposed deletions from the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Paper, Tabulating Machine:

NSN: 7530-00-NIB-0320

NSN: 7530-00-NIB-0342

NSN: 7530-00-NIB-0343

NPAs: Arizona Industries for the Blind, Phoenix, AZ.

Association for Vision Rehabilitation and Employment, Inc., Binghamton, NY.

Tarrant County Association for the Blind, Fort Worth, TX.

Contracting Activity: GSA/FSS OFC SUP CTR—Paper Products, New York, NY.

Paper, Tabulating Machine:

NSN: 7530-00-731-5363

NPA: Tarrant County Association for the Blind, Fort Worth, TX.

Contracting Activity: GSA/FSS OFC SUP CTR—Paper Products, New York, NY.

Easel, Wallboard, Cork:

NSN: 7195-01-484-0009

Easel, Wallboard, Fabric:

NSN: 7195-01-484-0008

NSN: 7195-01-484-0018

NPA: The Lighthouse for the Blind, Inc. (Seattle Lighthouse), Seattle, WA.

Contracting Activity: GSA/FSS OFC SUP CTR—Paper Products, New York, NY.

Illuminator/Corrector Stx and Refills

NSN: 7520-01-386-2407

NSN: 7510-01-390-0709

NSN: 7520-01-386-2441

NPA: San Antonio Lighthouse for the Blind, San Antonio, TX.

Contracting Activity: GSA/FSS OFC SUP CTR—Paper Products, New York, NY.

Services

Service Type/Location: Janitorial/Custodial, U.S. Army Reserve Center, 355 Anderson Highway, Clemson, SC.

NPA: Pickens County Board of Disabilities and Special Needs, Easley, SC.

Contracting Activity: Dept. of the Army, XR W40M Natl Region Contract OFC, Washington, DC.

Service Type/Location: Parking Facility Attendant, VA Medical Center, 2215 Fuller Road, Ann Arbor, MI.

NPA: Washtenaw County Community Support and Treatment Services, Ann Arbor, MI.

Contracting Activity: Veterans Affairs, Department of NAC, Hines, IL.

Service Type/Location: Janitorial/Custodial, OSHA Training Center, 1555 Times Drive, Des Plaines, IL.

NPA: Lester and Rosalie Anixter Center, Chicago, IL.

Contracting Activity: Department of Labor, Washington, DC.

Louis Bartalot,
Director, Compliance and Review.

[FR Doc. E9-25515 Filed 10-22-09; 8:45 am]

BILLING CODE 6353-01-P